OVERSEAS PRIVATE INVESTMENT CORPORATION

Sunshine Act Meeting; Board of Directors Meeting Notice

TIME AND DATE: Thursday, December 11, 2014, 2 p.m. (OPEN Portion), 2:15 p.m. (CLOSED Portion)

PLACE: Offices of the Corporation, Twelfth Floor Board Room, 1100 New York Avenue NW., Washington, DC

STATUS: Meeting OPEN to the Public from 2 p.m. to 2:15 p.m. Closed portion will commence at 2:15 p.m. (approx.)

MATTERS TO BE CONSIDERED:

1. President's Report

2. Minutes of the Open Session of the September 18, 2014 Board of Directors Meeting

FURTHER MATTERS TO BE CONSIDERED (Closed to the Public 2:15 p.m.):

1. Finance Project—Kenya

2. Finance Project—India

3. Minutes of the Closed Session of the September 18, 2014 Board of Directors Meeting

4. Reports

5. Pending Projects

CONTACT PERSON FOR INFORMATION: Information on the meeting may be obtained from Connie M. Downs at (202) 336-8438.

Dated: December 1, 2014.
Connie M. Downs,
Corporate Secretary, Overseas Private Investment Corporation.

[FR Doc. 2014-28561 Filed 12-2-14; 11:15 am]

BILLING CODE 3210-01-P